DEPARTMENT OF HEALTH AND HUMAN SERVICES

Food and Drug Administration

21 CFR Part 1140

[Docket No. FDA-2018-N-0011]

Cigarettes, Smokeless Tobacco, and Covered Tobacco Products; Change of Office Name and Address; Technical Amendment

AGENCY: Food and Drug Administration, HHS.

ACTION: Final rule; technical amendment.

SUMMARY: The Food and Drug Administration (FDA or Agency) is amending its Cigarettes, Smokeless Tobacco, and Covered Tobacco Products regulations to reflect a change of office name and mailing address for the Center for Tobacco Products' (CTP's) Office of Compliance and Enforcement. This action is editorial in nature and is intended to improve the accuracy of the Agency's regulations.

DATES: This rule is effective March 28, 2018.

FOR FURTHER INFORMATION CONTACT: May Nelson, Center for Tobacco Products, Food and Drug Administration, Document Control Center, 10903 New Hampshire Ave., Bldg. 71, Rm. G335, Silver Spring, MD 20993, 1-877-CTP-1373, ctpregulations@fda.hhs.gov.

SUPPLEMENTARY INFORMATION: FDA is amending our regulations in part 1140 (21 CFR part 1140) to reflect the change of an office name and the mailing address in the regulation. The office name was the Office of Compliance and the new office name is Office of Compliance and Enforcement. The mailing address for notices submitted under § 1140.30(a)(2) is updated to CTP's Document Control Center, 10903 New Hampshire Ave., Bldg. 71, Rm. G335, Silver Spring, MD 20993.

Publication of this document constitutes final action under the Administrative Procedure Act (5 U.S.C. 553). FDA has determined that notice and public comment are unnecessary because the amendments to the regulations provide only technical changes to correct an office name and address, and are nonsubstantive. To the extent that 5 U.S.C. 553(d) applies, FDA has determined that, for the same reasons, good cause exists for making this rule effective upon publication in the Federal Register.

List of Subjects in 21 CFR Part 1140

Advertising, Labeling, Smoking, Tobacco.

Therefore, under the Federal Food, Drug, and Cosmetic Act and under authority delegated to the Commissioner of Food and Drugs, 21 CFR part 1140 is amended as follows:

PART 1140—CIGARETTES, SMOKELESS TOBACCO, AND COVERED TOBACCO PRODUCTS

1. The authority citation for part 1140 continues to read as follows:

Authority: 21 U.S.C. 301 et seq., Sec. 102, Pub. L. 111-31, 123 Stat. 1776.

2. Amend § 1140.30 by revising the last sentence of paragraph (a)(2) to read as follows:

§ 1140.30 Scope of permissible forms of labeling and advertising.

(a) * * *

(2) * * * The manufacturer, distributor, or retailer shall send this notice to the Office of Compliance and Enforcement, Center for Tobacco Products, Food and Drug Administration, Document Control Center, 10903 New Hampshire Ave., Bldg. 71, Rm. G335, Silver Spring, MD 20993.

* * * * *

Dated: March 21, 2018.
Leslie Kux,
Associate Commissioner for Policy.

[FR Doc. 2018-06164 Filed 3-27-18; 8:45 am]

BILLING CODE 4164-01-P